DEPARTMENT OF COMMERCE

National Oceanic and Atmospheric Administration

RIN 0648-XK09

Caribbean Fishery Management Council; Public Meetings

AGENCY: National Marine Fisheries Service (NMFS), National Oceanic and Atmospheric Administration (NOAA), Commerce.

ACTION: Notice of scoping meetings.

SUMMARY: The Caribbean Fishery Management Council will hold scoping meetings to obtain input from fishers, the general public, and the local agencies representatives on the Regulatory Amendment to the Fishery Management Plan for the Reef Fish Fishery of Puerto Rico and the United States Virgin Islands Concerning Bajo de Sico Seasonal Closure including a Regulatory Impact Review and an Environmental Assessment.

DATES: The scoping meetings will be held on the following dates and locations:

•September 18, 2008, Mayaguez Resort and Casino, Rd. 104, Km. 0.3, Mayaguez, Puerto Rico

•September 19, 2008, Pierre Hotel at Gallery Plaza, De Diego Avenue, Santurce, Puerto Rico

•September 22, 2008, Frenchman's Reef and Morning Star Hotel, 5 Estate Bakkeroe, St. Thomas, USVI

•September 23, 2008, Buccaneer Hotel,,Estate Shoys, Christtiansted, St. Croix, USVI.

All meetings will be held from 7 p.m. to 10 p.m.

FOR FURTHER INFORMATION CONTACT: Caribbean Fishery Management Council, 268 Munoz Rivera Avenue, Suite 1108, San Juan, Puerto Rico 00918-2577, telephone: (787) 766-5926.

SUPPLEMENTARY INFORMATION: The Caribbean Fishery Management Council will hold Scoping meetings to receive public input on the Regulatory Amendment to the Fishery Management Plan for the Reef Fish Fishery of Puerto Rico and the United States Virgin Islands Concerning Bajo de Sico Seasonal Closure including a Regulatory Impact Review and an Environmental Assessment.

Although non-emergency issues not contained in this agenda may come before these groups for discussion, in accordance with the Magnuson-Stevens Fishery Conservation and Management Act (Magnuson-Stevens Act), those issues may not be the subject of formal action during this meeting. Actions will be restricted to those issues specifically identified in this notice and any issues arising after publication of this notice that require emergency action under section 305 ( c ) of the Magnuson-Stevens Act, provided the public has been notified of the Council's intent to take final action to address the emergency.

Special Accommodations

These meetings are physically accessible to people with disabilities. For more information or request for sign language interpretation and other auxiliary aids, please contact Mr. Miguel A. Rolon, Executive Director, Caribbean Fishery Management Council, 268 Munoz Rivera Avenue, Suite 1108, San Juan, Puerto Rico 00918-2577, telephone: (787) 766-5926, at least 5 days prior to the meeting date.

Dated: August 26, 2008.
Tracey L. Thompson,
Acting Director, Office of Sustainable Fisheries, National Marine Fisheries Service.

[FR Doc. E8-20067 Filed 8-28-08; 8:45 am]

BILLING CODE 3510-22-S